DEPARTMENT OF HEALTH AND HUMAN SERVICES

National Institutes of Health

Notice of Listing of Members of the National Institutes of Health's Senior Executive Service Performance Review Board (PRB)

The National Institutes of Health (NIH) announces the persons who will serve on the National Institutes of Health's Senior Executive Service Performance Review Board. This action is being taken in accordance with title 5, U.S.C., section 4314(c)(4), which requires that members of performance review boards be appointed in a manner to ensure consistency, stability, and objectivity in performance appraisals, and requires that notice of the appointment of an individual to serve as a member be published in the Federal Register.

The following persons will serve on the NIH Performance Review Board, which oversees the evaluation of performance appraisals of NIH Senior Executive Service (SES) members:

Tony Itteilag, Acting Chair

Wendy Baldwin, Ph.D.

J. Carl Barrett, Ph.D.

Colleen Barros

Robert Desimone, Ph.D.

Elvera Ehrenfeld, Ph.D.

Michael Gottesman, M.D.

Charles Leasure

Alan Leshner, Ph.D.

Yvonne Maddox, Ph.D.

John McGowan, Ph.D.

Pedro Morales, J.D.

Louise Ramm, Ph.D.

For further information about the NIH Performance Review Board, contact the Office of Human Resource Management, Senior and Scientific Employment Division, National Institutes of Health, Building 31/B3C08, Bethesda, Maryland 20892, telephone (301) 496-1443 (not a toll-free number).

Dated: August 24, 2000.
Yvonne Maddox,
Acting Deputy Director, NIH.

[FR Doc. 00-22475 Filed 8-31-00; 8:45 am]

BILLING CODE 4140-01-M